DEPARTMENT OF LABOR

Employment and Training Administration

[TA-W-53,191]

Snap-Tite, Inc., dba Autoclave Engineers Division, Erie, PA; Notice of Termination of Investigation

Pursuant to section 221 of the Trade Act of 1974, as amended, an investigation was initiated on October 8, 2003 in response to a worker petition filed by a company official on behalf of workers at Snap-tite, Inc., dba Autoclave Engineers Division, Erie, Pennsylvania.

The petitioner has requested that the petition be withdrawn. Consequently, the investigation has been terminated.

Signed at Washington, DC this 14th day of November, 2003.
Richard Church,
Certifying Officer, Division of Trade Adjustment Assistance.

[FR Doc. 03-31529 Filed 12-22-03; 8:45 am]

BILLING CODE 4510-30-P